DEPARTMENT OF HEALTH AND HUMAN SERVICES

Health Resources and Services Administration

Technical and Non-Financial Assistance to Health Centers: Perinatal/Patient Safety Pilot Health Disparities Collaborative Cooperative Agreement Announcement of Single Source Award

AGENCY: Health Resources and Services Administration, HHS.

ACTION: Announcement of Single Source Award.

SUMMARY: The Health Resources and Services Administration (HRSA) announces the award of a single source cooperative agreement for $1,700,000 to the Institute for Health Care Improvement. This award is for an 18 month project period beginning September 1, 2004. The purpose of this cooperative agreement is to pilot a Perinatal/Patient Safety Health Disparities Collaborative for health centers funded under section 330 of the Public Health Service (PHS) Act.

Background: The Institute for Health Care Improvement (IHI) is uniquely qualified. IHI is a private, non-profit organization leading the improvement of health care throughout the world. IHI is a catalyst for change, cultivating innovative concepts for improving patient care and implementing programs for putting those ideas into action. It is recognized as a leading force in the challenge to improve health status, clinical outcomes, access to high quality acceptable care, patient satisfaction and cost effectiveness in the health care arena. They have achieved this high level of standing among health professionals by developing and teaching the Breakthrough Series to leaders interested in improving the quality of medical care. The Breakthrough Series methodology facilitates rapid implementation of successful care models in many area of health care delivery.

Given the mission of IHI, its recognized leadership position in implementing improvements in health care delivery systems, and its experience in working with thousands of health care providers, including health centers, HRSA believes that IHI is uniquely qualified and essential to assist the Agency in launching the pilot Perinatal/Patient Safety Health Disparities Collaborative in FY 2004.

FOR FURTHER INFORMATION CONTACT: Additional information may be obtained from Ada Determan, HRSA/Bureau of Primary Health Care, 4350 East West Highway, 8th Floor, Bethesda, Maryland 20814; telephone: (301) 594-4358; fax: (301) 594-4081; e-mail: Adeterman@hrsa.gov.

Dated: October 8, 2004.
Elizabeth M. Duke,
Administrator.

[FR Doc. 04-23184 Filed 10-14-04; 8:45 am]

BILLING CODE 4165-15-P